DEPARTMENT OF HEALTH AND HUMAN SERVICES

National Institutes of Health

National Institute of Mental Health; Amended Notice of Meeting

Notice is hereby given of a change in the meeting of the National Institute of Mental Health Special Emphasis Panel, January 25, 2005, 1 p.m. to January 25, 2005, 4 p.m. National Institutes of Health, Neuroscience Center, 6001 Executive Boulevard, Rockville, MD, 20852 which was published in the Federal Register on January 12, 2005, 70 FR 2178.

The meeting will be held on March 8, 2005, at the Neuroscience Center, Rockville, MD, from 1 p.m. to 5 p.m. as a telephone conference call. The meeting is closed to the public.

Dated: February 22, 2005.
Laverne Y. Stringfield,
Director, Office of Federal Advisory Committee Policy.

[FR Doc. 05-3881 Filed 2-28-05; 8:45 am]

BILLING CODE 4140-01-M